SMALL BUSINESS ADMINISTRATION

[Disaster Declaration #14371 and #14372]

Louisiana Disaster Number LA-00009

AGENCY: U.S. Small Business Administration.

ACTION: Amendment 2.

SUMMARY: This is an amendment of the Presidential declaration of a major disaster for Public Assistance Only for the State of LOUISIANA (FEMA-4228-DR), dated 07/13/2015.

Incident: Severe Storms and Flooding.

Incident Period: 05/18/2015 through 06/20/2015.

Effective Date: 09/04/2015.

Physical Loan Application Deadline Date: 09/11/2015.

Economic Injury (EIDL) Loan Application Deadline Date: 04/13/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of LOUISIANA, dated 07/13/2015, is hereby amended to include the following areas as adversely affected by the disaster.

Primary Parish: West Feliciana.

All other information in the original declaration remains unchanged.

(Catalog of Federal Domestic Assistance Numbers 59002 and 59008)

Joseph P. Loddo,
Acting Associate Administrator for Disaster Assistance.

[FR Doc. 2015-23194 Filed 9-15-15; 8:45 am]

BILLING CODE 8025-01-P